DEPARTMENT OF COMMERCE

International Trade Administration

Request for Stakeholder Comments on Doing Business in Africa Campaign

AGENCY: International Trade Administration, Department of Commerce.

ACTION: Notice.

SUMMARY: The United States Department of Commerce, International Trade Administration is amending the Notice published at 78 FR 22516, April 16, 2013, regarding the Doing Business in Africa Campaign, to extend the deadline date for comments from May 3, 2013 to the new deadline of May 24, 2013.

FOR FURTHER INFORMATION CONTACT: Frank Spector, Office of Domestic Operations, Trade Promotion Programs, Phone: 202-482-2054; Fax: 202-482-9000, Email: Frank.Spector@trade.gov.

Frank Spector,
Senior International Trade Specialist.

[FR Doc. 2013-10286 Filed 4-30-13; 8:45 am]

BILLING CODE 3510-FP-P